DEPARTMENT OF STATE

[Public Notice 9091]

Certification Related to the Government of Haiti Under Section 7045(E)(1) of the Department of State, Foreign Operations, and Related Programs Appropriations Act, 2015

Pursuant to the authority vested in the Secretary of State, including under section 7045(e)(1) of the Department of State, Foreign Operations, and Related Programs Appropriations Act, 2015 (Div. J, Pub. L. 113-235), I hereby certify that Haiti is taking steps to hold free and fair parliamentary elections and to seat a new Haitian Parliament; is selecting judges in a transparent manner and respecting the independence of the judiciary; is combating corruption, including implementing the anti-corruption law by prosecuting corrupt officials; and is improving governance and implementing financial transparency and accountability requirements for government institutions.

This Certification shall be published in the Federal Register, and copies shall be transmitted to the appropriate committees of Congress.

Dated: April 1, 2015.
John F. Kerry,
Secretary of State.

[FR Doc. 2015-08468 Filed 4-10-15; 8:45 am]

BILLING CODE 4710-10-P